INTERNATIONAL TRADE COMMISSION

[Investigation No. 337-TA-1377]

Certain Products Containing Tirzepatide and Products Purporting To Contain Tirzepatide; Notice of Institution of Investigation

AGENCY: U.S. International Trade Commission.

ACTION: Notice.

SUMMARY: Notice is hereby given that a complaint was filed with the U.S. International Trade Commission on October 19, 2023, under section 337 of the Tariff Act of 1930, as amended, on behalf of Eli Lilly and Company of Indianapolis, Indiana. A supplement was filed on November 10, 2023. The complaint, as supplemented, alleges violations of section 337 based upon the importation into the United States, the sale for importation, and the sale within the United States after importation of certain products containing tirzepatide and products purporting to contain tirzepatide by reason of the infringement of U.S. Trademark Registration No. 6,809,369 (“the '369 mark”). The complaint further alleges that an industry in the United States exists as required by the applicable Federal Statute. The complaint also alleges violations of section 337 based upon the importation into the United States, or in the sale of certain products containing tirzepatide and products purporting to contain tirzepatide by reason of false designation of source and false and misleading advertising, the threat or effect of which is to destroy or substantially injure an industry in the United States. The complainant requests that the Commission institute an investigation and, after the investigation, issue a general exclusion order or, in the alternative, a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2023).

Scope of Investigation: Having considered the complaint, the U.S. International Trade Commission, on November 20, 2023, ordered that—

(1) Pursuant to subsection (b) of section 337 of the Tariff Act of 1930, as amended, an investigation be instituted to determine whether there is a violation of subsection (a)(1)(A) of section 337 in the importation into the United States, the sale for importation, or the sale within the United States after importation of certain products identified in paragraph (3) by reason of false designation of source and false and misleading advertising, the threat or effect of which is to destroy or substantially injure an industry in the United States;

(2) Pursuant to subsection (b) of section 337 of the Tariff Act of 1930, as amended, an investigation be instituted to determine whether there is a violation of subsection (a)(1)(C) of section 337 in the importation into the United States, the sale for importation, or the sale within the United States after importation of certain products identified in paragraph (3) by reason of infringement of the '369 mark, and whether an industry in the United States exists as required by subsection (a)(2) of section 337;

(3) Pursuant to section 210.10(b)(1) of the Commission's Rules of Practice and Procedure, 19 CFR 210.10(b)(1), the plain language description of the accused products or category of accused products, which defines the scope of the investigation, is “products containing tirzepatide or purporting to contain tirzepatide sold in powdered or constituted form”;

(4) For the purpose of the investigation so instituted, the following are hereby named as parties upon which this notice of investigation shall be served:

(a) The complainant is:

Eli Lilly and Company, Lilly Corporate Center, Indianapolis, IN 46285

(b) The respondents are the following entities alleged to be in violation of section 337, and are the parties upon which the complaint is to be served:

Arctic Peptides LLC, 2104 NE Oak Dr, Ankeny, IA 50021

Audrey Beauty Co., Flat C 23/F Lucky Plaza, 315-321 Lockhart Road, Wan Chai, Hong Kong, China

Biolabshop Limited, 25 Scotforth Road, Lancaster, PR1 4XX, United Kingdom

Mew Mews Company Limited, RM C1 11/F Blk 1 152 Tai Lin Pai Road, Golden Dragon IND Ctr., Kwai Chung, New Territories, Hong Kong, China

Strate Labs LLC, 18482 Kuykendahl Road #123, Spring, TX 77379-8123

Steroide Kaufen, W. Polna 2017, 15-698 Bialystok, Poland

Super Human Store, Passeig Del Taulat 267, 5O 4A, Barcelona 08019, Spain

Supopeptide, 371 Little Falls Road Ste 4, Cedar Grove, NJ 07009

Triggered Supplements LLC, (d/b/a The Triggered Brand), 1361 S Martin Luther King Jr Ave., Clearwater, FL 33756

Unewlife, 371 Little Falls Road Ste 4, Cedar Grove, NJ 07009

Xiamen Austronext Trading Co., Ltd. (d/b/a AustroPeptide), Room 3001, No. 5998, Maqing Rd., Haicang District, Xiamen, Fujian, China 361026

(c) The Office of Unfair Import Investigations, U.S. International Trade Commission, 500 E Street, SW, Suite 401, Washington, DC 20436; and

(5) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.

Issued: November 21, 2023.
Lisa Barton,
Secretary to the Commission.

[FR Doc. 2023-26058 Filed 11-24-23; 8:45 am]

BILLING CODE 7020-02-P